DEPARTMENT OF ENERGY

Secretary of Energy Advisory Board Meeting

AGENCY: Department of Energy.

ACTION: Notice of open meeting.

SUMMARY: This notice announces an open meeting of the Secretary of Energy Advisory Board (SEAB). SEAB was reestablished pursuant to the Federal Advisory Committee Act and this notice is provided in accordance with that act.

DATES: Thursday, January 20, 2011, 9 a.m.-5 p.m.

ADDRESSES: U.S. Department of Energy, 1000 Independence Avenue, SW., Washington, DC 20585.

FOR FURTHER INFORMATION CONTACT: Amy Bodette, Designated Federal Officer, U.S. Department of Energy, 1000 Independence Avenue, SW., Washington, DC 20585; telephone (202) 586-0383 or facsimile (202) 586-1441; e-mail: seab@hq.doe.gov.

SUPPLEMENTARY INFORMATION: Background: The Board was reestablished to provide advice and recommendations to the Secretary on the Department's basic and applied research, economic and national security policy, educational issues, operational issues and other activities as directed by the Secretary.

Purpose of the Meeting: The meeting will provide an overview to the Board.

Tentative Agenda: The meeting will start at 9 a.m. on January 20th and will serve as an update meeting for the Board. The tentative meeting agenda includes a welcome, opening remarks from the Secretary, reports on planned activities from subcommittees and an opportunity for public comment. The meeting will conclude at 5 p.m.

Public Participation: The meeting is open to the public. Individuals who would like to attend must RSVP to Amy Bodette no later than 5 p.m. on Tuesday, January 18, 2011, by e-mail at seab@hq.doe.gov. Please provide your name, organization, citizenship and contact information. Entry to the DOE Forrestal building will be restricted to those who have confirmed their attendance in advance. Anyone attending the meeting will be required to present government issued identification. Individuals and representatives of organizations who would like to offer comments and suggestions may do so at the end of the meeting on Thursday, January 20, 2011. Approximately 30 minutes will be reserved for public comments. Time allotted per speaker will depend on the number who wish to speak but will not exceed 5 minutes. The Designated Federal Officer is empowered to conduct the meeting in a fashion that will facilitate the orderly conduct of business. Those wishing to speak should register to do so beginning at 9 a.m. on January 20, 2011.

Those not able to attend the meeting or have insufficient time to address the committee are invited to send a written statement to Amy Bodette, U.S. Department of Energy, 1000 Independence Avenue, SW., Washington DC 20585, or by email to seab@hq.doe.gov.

Minutes: The minutes of the meeting will be available on the SEAB website http://www.energy.gov/SEAB or by contacting Ms. Bodette. She may be reached at the postal address or e-mail address above.

Issued in Washington, DC, on December 22, 2010.
LaTanya R. Butler,
Acting Deputy Committee Management Officer.

[FR Doc. 2010-32806 Filed 12-28-10; 8:45 am]

BILLING CODE 6450-01-P